DEPARTMENT OF LABOR

Employment and Training Administration

[TA-W-64,925]

Dana Heavy Vehicles System Group, Heavy Vehicle Division, Glasgow, KY; Notice of Termination of Investigation

Pursuant to Section 221 of the Trade Act of 1974, as amended, an investigation was initiated on January 22, 2009 in response to a worker petition filed on behalf of workers at Dana Heavy Vehicles System Group, Heavy Vehicle Division, Glasgow, Kentucky.

The petitioning group of workers is covered by an active certification Dana Holding Corporation, Heavy Vehicle Division, Glasgow, Kentucky (TA-W-63,305) which expires on May 30, 2010. Consequently, further investigation in this case would serve no purpose, and the investigation has been terminated.

Signed at Washington, DC this 6th day of February 2009.
Elliott S. Kushner,
Certifying Officer, Division of Trade Adjustment Assistance.

[FR Doc. E9-3736 Filed 2-20-09; 8:45 am]

BILLING CODE 4510-FN-P